DEPARTMENT OF AGRICULTURE

Forest Service

Lake Tahoe Basin Federal Advisory Committee; Meeting

AGENCY: Forest Service, USDA.

ACTION: Notice of meeting.

SUMMARY: The Lake Tahoe Basin Federal Advisory Committee will hold a meeting on May 3, 2000, at the North Tahoe Conference Center, 1318 N. Lake Blvd. Kings Beach CA 96143. This Committee, established by the Secretary of Agriculture on December 15, 1998, (64 FR 2876) is chartered to provide advice to the Secretary of Agriculture and the Federal Interagency Partnership on the protection of the environmental and economic health of the Lake Tahoe Region.

DATES: The meeting will be held May 3, 2000 beginning at 9:00 a.m. and ending at 4:30 p.m.

ADDRESSES: The meeting will be held at the North Tahoe Conference Center, 1318 N. Lake Blvd. Kings Beach, CA 96143.

FOR FURTHER INFORMATION CONTACT: Ed Gee or Jeannie Stafford, Lake Tahoe Basin Management Unit, Forest Service, 870 Emerald Bay Road Suite 1, South Lake Tahoe, CA 96150, (530) 573-2642.

SUPPLEMENTARY INFORMATION: The committee will meet jointly with the Lake Tahoe Basin Executive Committees. Items to be covered on the agenda include: [1] Update of the Chapter renewal and announcement of new member: [2] budget subcommittee report ;[3] status report on summer events; [4] usefulness of the Committee to the Federal Partnership: [5] TRPA proposal to expedite EIP implementation; [6] update on Washoe Tribe issues and projects; [7] US Postal Service response to the Committee letter; and [8] open public comment. All Lake Tahoe Basin Federal Advisory Committee meetings are open to the public. Interested citizens are encouraged to attend. Issues may be brought to the attention of the Committee during the open public comment period at the meeting or by filing written statements with the secretary for the Committee before or after the meeting. Please refer any written comments to the Lake Tahoe Basin Management Unit at the contact address stated above.

Dated: April 7, 2000.
Edmund Gee,
Acting Forest Supervisor.

[FR Doc. 00-9724 Filed 4-18-00; 8:45 am]

BILLING CODE 3410-11-M